BROADCASTING BOARD OF GOVERNORS

Performance Review Board Members

AGENCY: Broadcasting Board of Governors.

ACTION: Notice of Membership.

SUMMARY: This Notice is issued to announce the membership of the Broadcasting Board of Governors (BBG) Performance Review Board.

DATES: Upon publication.

FOR FURTHER INFORMATION CONTACT: Ms. Linda C. Beard (Executive Secretary), Office of Personnel, Broadcasting Board of Governors, 330 Independence Avenue SW, Washington, DC 20237, Telephone: (202) 619-1523.

SUPPLEMENTARY INFORMATION: In accordance with sections 4314(c) (1) through (5) of the Civil Service Reform Act of 1978 (Pub. L. 95454), the following is a list of members of the 2000 Performance Review Board for the Broadcasting Board of Governors.

Chairperson: Director for International Broadcasting Bureau, Brian Conniff (Acting). Panel 1—International Broadcasting Bureau SES Members.

Chairperson: Chief of Staff for the Broadcasting Board of Governors, Josiah H. Beeman. Panel 2: Broadcasting Board of Governors SES Members Career SES Members.

Patricia Popovich, Deputy Chief, Information Officer For Management, Information Resources Management Bureau, Department of State.

Mike Blank, Executive Officer for the Immediate Office of the Secretary for Health and Human Services.

Alternate Career SES Members, Stephen Smith, Associate Director for Management, International Broadcasting Bureau, Broadcasting Board of Governors.

Dated: December 7, 2000.
John S. Welch,
Director, Office of Personnel.

[FR Doc. 00-31746 Filed 12-12-00; 8:45 am]

BILLING CODE 8610-01-P